ENVIRONMENTAL PROTECTION AGENCY

40 CFR Part 52

[R06-OAR-2005-NM-0001; FRL-7921-8]

Approval and Promulgation of Air Quality Implementation Plans; New Mexico; Albuquerque/Bernalillo County

AGENCY: Environmental Protection Agency (EPA).

ACTION: Direct final rule; withdrawal.

SUMMARY: On April 14, 2005 EPA published a direct final rule (71 FR 19702) approving revisions to the New Mexico State Implementation Plan (SIP) concerning the second ten-year carbon monoxide (CO) maintenance plan for the Albuquerque/Bernalillo County, New Mexico area. The revision was based on a request from the State submitted to EPA on September 7, 2004. In the proposed rules section of the April 14, 2005 Federal Register (71 FR 19723), we stated that written comment must be received by May 16, 2005. We received written adverse comments during the public comment period on our April 14, 2005 rulemaking action. The EPA is withdrawing this final rule due to the adverse comments received on this rulemaking action. In a subsequent final rule, we will summarize and respond to written comments received and take final rulemaking action on this requested New Mexico SIP revision.

DATES: The direct final rule published at 71 FR 19702 is withdrawn on June 8, 2005.

ADDRESSES: Copies of the documents relevant to this action are available for public inspection during normal business hours at the following location.

Environmental Protection Agency, Region 6, Air Planning Section (6PD-L), 1445 Ross Avenue, Dallas, Texas 75202-2733.

FOR FURTHER INFORMATION CONTACT: Mr. Alan Shar, Air Planning Section (6PD-L), EPA Region 6, 1445 Ross Avenue, Dallas, Texas 75202-2733, telephone (214) 665-6691, and shar.alan@epa.gov.

List of Subjects in 40 CFR Part 52

Environmental protection, Air pollution control, Carbon monoxide, Intergovernmental relations, Reporting and recordkeeping requirements, Volatile organic compounds.

Dated: May 31, 2005.
Richard E. Greene,
Regional Administrator, Region 6.

Accordingly, under the authority of 42 U.S.C 7401-7671q, the direct final rule published on April 14, 2005 (71 FR 19702), with the effective date of June 13, 2005 is withdrawn.

[FR Doc. 05-11272 Filed 6-7-05; 8:45 am]

BILLING CODE 6560-50-P